DEPARTMENT OF ENERGY

Federal Energy Regulatory Commission

[Docket No. CP13-550-000; RP13-1362-000]

ONEOK, Inc.; ONE Gas, Inc.; Notice of Application and Petition

Take notice that on September 27, 2013, ONEOK, Inc. (ONEOK) and ONE Gas, Inc. (ONE Gas), 100 West Fifth Street, Tulsa, Oklahoma 74103, jointly filed in Docket No. CP13-550-000 an application pursuant to sections 7(b), 7(c), and 7(f) of the Natural Gas Act (NGA) and Parts 157 and 284 of the Commission's regulations for authorizations required to implement the transfer certain natural gas distribution assets located in Kansas, Oklahoma, and Texas from ONEOK to ONE Gas pursuant to a corporate reorganization. ONEOK's natural gas distribution operating divisions to be transferred are Oklahoma Natural Gas Company, Texas Gas Service, and Kansas Gas Service. In the same document, ONEOK and ONE Gas jointly petition in Docket No. RP13-1362-000, pursuant to section 385.207(a)(5) of the Commission's rules of practice and procedure, for the grant of temporary waiver of the Commission's capacity release rules.

The authorizations requested by the applicants include: (1) Authorization pursuant to Section 7(b) of the NGA for ONEOK to abandon by transfer: (a) its Part 284 authority for interruptible interstate service; (b) its Section 7(c) limited jurisdiction certificate to transport natural gas on a no-fee basis; and (c) its Section 7(f) service area determination; and contemporaneously with such abandonment, (2) the necessary authorizations for ONE Gas to perform the same services as ONEOK's successor in interest, including: (a) Part 284 authority for interruptible interstate service; (b) a limited jurisdiction certificate pursuant to Section 7(c) of the NGA for ONE Gas to transport natural gas pursuant to a No-Fee Gas Exchange Agreement; (c) a limited service area determination pursuant to Section 7(f) of the NGA.

In addition, ONE Gas requests: (1) Commission determination that the limited jurisdiction certificate will not affect the non-jurisdictional status of the remainder of the natural gas distribution facilities it shall receive from ONEOK pursuant to the reorganization; and (2) Commission waiver of the requirements of part 154 of the Commission's regulations for as long as no fee is charged in connection with the No-Fee Exchange Agreement. Applicants also petition for a temporary waiver of the Commission's capacity release rules in order to permit the release of pipeline transportation service agreements from ONEOK to ONE Gas as necessary to implement orderly corporate restructuring and reorganization. Applicants request that the Commission consider the application and petition together and grant the authorizations, effective upon the closing of the transaction between ONEOK and ONE Gas, in an order issued by November 21, 2013.

Any questions regarding the joint application should be directed to Vicky C. Benedict, Vice President and Associate General Counsel, 100 West Fifth Street, Tulsa, Oklahoma 74103, by phone at (918) 588-7949 or by email at Vicky.Benedict@oneok.com; or Lawrence G. Acker, Counsel for ONEOK, Inc. and ONE Gas, Inc., Van Ness Feldman, LLP, 1050 Thomas Jefferson Street NW., 7th Floor, Washington, DC 20007, by phone at (202) 298-1915, or by email at lga@vnf.com.

There are two ways to become involved in the Commission's review of this project. First, any person wishing to obtain legal status by becoming a party to the proceedings for this project should, on or before the comment date stated below, file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit an original and 7 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

The Commission strongly encourages electronic filings of comments, protests and interventions in lieu of paper using the “eFiling” link at http://www.ferc.gov. Persons unable to file electronically should submit an original and 7 copies of the protest or intervention to the Federal Energy regulatory Commission, 888 First Street, NE., Washington, DC 20426. This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: October 16, 2013.

Dated: October 1, 2013.
Kimberly D. Bose,
Secretary.

[FR Doc. 2013-24395 Filed 10-7-13; 8:45 am]

BILLING CODE 6717-01-P